NUCLEAR REGULATORY COMMISSION

Advisory Committee on Reactor Safeguards (ACRS); Meeting of the ACRS Subcommittee on ESBWR

The ACRS Subcommittee on ESBWR will hold a meeting on August 16-17, 2010,

Room T-2B1, 11545 Rockville Pike, Rockville, Maryland.

The entire meeting will be open to public attendance, with the exception of a portion that may be closed to protect information that is proprietary to General Electric—Hitachi Nuclear Americas, LLC (GEH) and its contractors pursuant to 5 U.S.C. 552b(c)(4).

The agenda for the subject meeting shall be as follows:

Monday, August 16, 2010 and Tuesday, August 17, 2010—8:30 a.m. Until 5:30 p.m.

The Subcommittee will discuss Chapters 2, 10, 12, 14, 15, 16, 18, 20, and 21 of the final Safety Evaluation Report associated with the ESBWR design. In addition, the Subcommittee will discuss the staff's evaluations of licensing technical reports NEDC-33373P, “Dynamic, Load-Drop and Thermal-Hydraulic Analysis for ESBWR Fuel Racks,” NEDC-33374P, “Safety Analysis Report for Fuel Storage Racks Criticality Analysis for ESBWR Plants,” NEDE-33083P, “TRACG Application for ESBWR,” NEDE-33083P, Supplement 1, “TRACG Application for ESBWR Stability Analysis,” NEDE-33083P, Supplement 2, “TRACG Application for ESBWR Anticipated Transient Without Scram Analyses,” and NEDE-33083P, Supplement 3, “TRACG Application for ESBWR Transient Analysis.” The Subcommittee will hear presentations by and hold discussions with representatives of the NRC staff, GEH, and other interested persons regarding this matter. The Subcommittee will gather information, analyze relevant issues and facts, and formulate proposed positions and actions, as appropriate, for deliberation by the Full Committee.

Members of the public desiring to provide oral statements and/or written comments should notify the Designated Federal Official (DFO), Christopher Brown (Telephone 301-415-7111 or E-mail Christopher.Brown@nrc.gov) five days prior to the meeting, if possible, so that appropriate arrangements can be made. Thirty-five hard copies of each presentation or handout should be provided to the DFO thirty minutes before the meeting. In addition, one electronic copy of each presentation should be emailed to the DFO one day before the meeting. If an electronic copy cannot be provided within this timeframe, presenters should provide the DFO with a CD containing each presentation at least thirty minutes before the meeting. Electronic recordings will be permitted only during those portions of the meeting that are open to the public. Detailed procedures for the conduct of and participation in ACRS meetings were published in the Federal Register on October 14, 2009, (74 FR 58268-58269).

Detailed meeting agendas and meeting transcripts are available on the NRC Web site at http://www.nrc.gov/reading-rm/doc-collections/acrs. Information regarding topics to be discussed, changes to the agenda, whether the meeting has been canceled or rescheduled, and the time allotted to present oral statements can be obtained from the Web site cited above or by contacting the identified DFO. Moreover, in view of the possibility that the schedule for ACRS meetings may be adjusted by the Chairman as necessary to facilitate the conduct of the meeting, persons planning to attend should check with these references if such rescheduling would result in a major inconvenience.

Dated: July 22, 2010.
Cayetano Santos,
Chief, Reactor Safety Branch A, Advisory Committee on Reactor Safeguards.

[FR Doc. 2010-18653 Filed 7-28-10; 8:45 am]

BILLING CODE 7590-01-P